FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011353-036.

Title: The Credit Agreement.

Parties: Crowley Latin America Services, LLC; Dole Ocean Cargo Express; King Ocean Services Limited; Seaboard Marine of Florida, Inc.; and Seaboard Marine Ltd.

Filing Party: Wayne R. Rohde, Esq.; Cozen O'Conner; 1627 I Street NW., Suite 1100; Washington, DC 20006-4007.

Synopsis: The amendment deletes Crowley Latin American Services, LLC and a King Ocean entity as a party to the Agreement.

Agreement No.: 012155.

Title: MSC/Zim South America East Coast Vessel Sharing Agreement.

Parties: MSC Mediterranean Shipping Company, S.A. and Zim Integrated Shipping Services Ltd.

Filing Party: Wayne R. Rohde, Esquire; Cozen O'Connor; 1627 I Street NW., Suite 1100; Washington, DC 20006-4007.

Synopsis: The agreement would authorize MSC and Zim to share vessels in the trade between the U.S. Gulf Coast and ports in Dominican Republic, Jamaica, Brazil, and Panama. It would also authorize MSC to charter space to Zim in the trade between the U.S. East Coast and ports in the Bahamas, Dominican Republic, Brazil, Argentina, and Uruguay.

Agreement No.: 012156.

Title: Slot Purchase Agreement Between UASC and YMUK.

Parties: United Arab Shipping Co., S.A.G. and Yang Ming (UK) Ltd.

Filing Party: Robert B. Yoshitomi, Esq., Nixon Peabody LLP, Gas Company Tower, 555 West Fifth Street 46th Floor, Los Angeles, CA 90013.

Synopsis: The agreement authorizes UASC to sell and Yang Ming to purchase slots in the trade between countries in the Mediterranean Sea and the Atlantic Coast of the United States and Canada.

Agreement No.: 200860-005.

Title: Fourth Amendment to Lease and Operating Agreement between PRPA and Dependable Distribution Services Inc. for Pier 84 South.

Parties: Philadelphia Regional Port Authority and Dependable Distribution Services Inc.

Filing Party: Paul D. Coleman, Esq.; Hoppel, Mayer & Coleman; 1050 Connecticut Avenue NW., Tenth Floor; Washington, DC 20036.

Synopsis: The amendment extends the lease for an additional renewal period through April 30, 2018, provides for the level of Base Rent during the new period, replaces the dockage fee provision, and establishes the prevailing wage on the facility.

Agreement No.: 201160-003.

Title: Marine Terminal Lease and Operating Agreement Between Broward County and Mediterranean Shipping Company S.A.

Parties: Broward County and Mediterranean Shipping Company S.A.

Filing Party: Candace J. Running; Broward County Board of County Commissioners; Office of the County Attorney; 1850 Eller Drive, Suite 502; Fort Lauderdale, FL 33316.

Synopsis: The amendment revises language in the agreement regarding the calculation of rates for containers and minimum guarantee payments.

Agreement No.: 201212.

Title: Marine Terminal Lease and Operating Agreement Between Broward County and King Ocean Services Limited (Cayman Islands) Incorporated.

Parties: Broward County and King Ocean Services Limited (Cayman Islands) Incorporated.

Filing Party: Candace J. Running; Broward County Board of County Commissioners; Office of the County Attorney; 1850 Eller Drive, Suite 502; Fort Lauderdale, FL 33316.

Synopsis: The agreement provides for the lease and operation of terminal facilities at Port Everglades in Broward County, Florida.

Dated: February 17, 2012.
By Order of the Federal Maritime Commission.
Rachel E. Dickon,
Assistant Secretary.

[FR Doc. 2012-4241 Filed 2-22-12; 8:45 am]

BILLING CODE 6730-01-P